DEPARTMENT OF HEALTH AND HUMAN SERVICES

Substance Abuse and Mental Health Services Administration

Fiscal Year (FY) 2025 Notice of Supplemental Funding Opportunity

AGENCY: Substance Abuse and Mental Health Services Administration, Department of Health and Human Services (HHS).

ACTION: Notice of intent to award supplemental funding.

SUMMARY: This notice is to inform the public that the Substance Abuse and Mental Health Services Administration (SAMHSA) is supporting administrative supplements in scope of the parent award for the 59-eligible Community Mental Health Services Block Grant (MHBG) recipients funded under the FFY 2024-2025 Combined Block Grant Application (OMB Control Number 0930-0168). In accordance with 42 U.S. Code § 300x-7, the distribution of MHBG funds, including funds allocated for technical assistance, must adhere to a statutory formula. The formula considers the population at risk, the cost of providing services, and other relevant factors. To comply with these requirements, technical assistance funds will be distributed to states and territories using this established formula. These awards have a project end date of September 30, 2026.

FOR FURTHER INFORMATION CONTACT: Eric Weakly, Chief, State and Consumer Protection Grants Branch, Center for Mental Health Services, Substance Abuse and Mental Health Services Administration, 5600 Fishers Lane, Rockville, MD 20857, email: Eric. Weakly@samhsa.hhs.gov.

SUPPLEMENTARY INFORMATION:

Funding Opportunity Title: FY 2025 Community Mental Health Services Block Grant OMB No. 0930-0168.

Assistance Listing Number: 93.958.

Authority: 1911-1920 of Title XIX, Part B, Subpart I of the Public Health Service Act (42 U.S.C. 300x—300x-9) and sections 1941-1956 of Title XIX, Part B, Subpart III of the Public Health Service Act (42 U.S.C. 300x—51-66).

Justification: Eligibility for this supplemental funding is limited to the 59 MHBG recipients of MHBG funding under the FFY 2024-2025 Combined Block Grant Application (OMB Control Number 0930-0168).

This is not a formal request for application. Assistance will only be provided to the 59 MHBG recipients based on the receipt of a written statement from the MHBG recipients, confirming their interest in receiving these funds.

Alicia Broadus,
Public Health Advisor.

[FR Doc. 2025-16392 Filed 8-26-25; 8:45 am]

BILLING CODE 4162-20-P